DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on July 30, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On July 30, 2025, OFAC determined that the property and interests in property subject to U.S. jurisdiction of the following persons are blocked under the relevant sanctions authority listed below.

BILLING CODE 4810-AL-P

Entities:

Individuals

BILLING CODE 4810-AL-C

On July 30, 2025, OFAC also identified the following vessels as property in which a blocked person has an interest under the relevant sanctions authority listed below.

Vessels:

1. ALE (D5IH3) Container Ship Liberia flag; Vessel Year of Build 2006; Vessel Registration Identification IMO 9303754; MMSI 636016895 (vessel) [IRAN-EO13902] (Linked To: MARVISE SMC DMCC).

Identified as property in which MARVISE SMC DMCC, a person whose property and interests in property are blocked pursuant to E.O. 13902, has an interest.

2. BERTIE (5LAO6) Container Ship Liberia flag; Vessel Year of Build 2003; Vessel Registration Identification IMO 9241487; MMSI 636020758 (vessel) [IRAN-EO13902] (Linked To: MARVISE SMC DMCC).

Identified as property in which MARVISE SMC DMCC, a person whose property and interests in property are blocked pursuant to E.O. 13902, has an interest.

3. LIDIA (D5LH5) Container Ship Liberia flag; Vessel Year of Build 2007; Vessel Registration Identification IMO 9330501; MMSI 636017505 (vessel) [IRAN-EO13902] (Linked To: MARVISE SMC DMCC).

Identified as property in which MARVISE SMC DMCC, a person whose property and interests in property are blocked pursuant to E.O. 13902, has an interest.

4. STAR (5LAS4) Container Ship Liberia flag; Vessel Year of Build 2009; Vessel Registration Identification IMO 9436484; MMSI 636020787 (vessel) [IRAN-EO13902] (Linked To: MARVISE SMC DMCC).

Identified as property in which MARVISE SMC DMCC, a person whose property and interests in property are blocked pursuant to E.O. 13902, has an interest.

5. ZAGOR (5LAV8) Container Ship Liberia flag; Vessel Year of Build 2006; Vessel Registration Identification IMO 9313242; MMSI 636020813 (vessel) [IRAN-EO13902] (Linked To: MARVISE SMC DMCC).

Identified as property in which MARVISE SMC DMCC, a person whose property and interests in property are blocked pursuant to E.O. 13902, has an interest.

6. VANI (a.k.a. NEREIDES) (T7BR2) Crude Oil Tanker San Marino flag; Vessel Year of Build 2004; Vessel Registration Identification IMO 9264881; MMSI 268246102 (vessel) [IRAN-EO13902] (Linked To: MARVISE SMC DMCC).

Identified as property in which MARVISE SMC DMCC, a person whose property and interests in property are blocked pursuant to E.O. 13902, has an interest.

7. ETHERA (3E3798) Chemical/Oil Tanker Panama flag; Vessel Year of Build 2008; Vessel Registration Identification IMO 9387279; MMSI 352002120 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

8. MISHELL (3E3825) Chemical/Products Tanker Panama flag; Vessel Year of Build 2008; Vessel Registration Identification IMO 9332315; MMSI 352002151 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

9. MYRA (3E2188) Oil Products Tanker Panama flag; Vessel Year of Build 2006; Vessel Registration Identification IMO 9336490; MMSI 352002021 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

10. HAKUNA MATATA (5LBT7) Container Ship Liberia flag; Vessel Year of Build 2008; Vessel Registration Identification IMO 9354167; MMSI 636021002 (vessel) [IRAN-EO13902] (Linked To: MARVISE SMC DMCC).

Identified as property in which MARVISE SMC DMCC, a person whose property and interests in property are blocked pursuant to E.O. 13902, has an interest.

11. MOANA (5LDK2) Container Ship Liberia flag; Vessel Year of Build 2004; Vessel Registration Identification IMO 9292151; MMSI 636021323 (vessel) [IRAN-EO13902] (Linked To: MARVISE SMC DMCC).

Identified as property in which MARVISE SMC DMCC, a person whose property and interests in property are blocked pursuant to E.O. 13902, has an interest.

12. PINOCCHIO (5LAB8) Container Ship Liberia flag; Vessel Year of Build 2009; Vessel Registration Identification IMO 9400112; MMSI 636020659 (vessel) [IRAN-EO13902] (Linked To: MARVISE SMC DMCC).

Identified as property in which MARVISE SMC DMCC, a person whose property and interests in property are blocked pursuant to E.O. 13902, has an interest.

13. CHARMINAR (3E2245) Chemical/Oil Tanker Panama flag; Vessel Year of Build 2006; Vessel Registration Identification IMO 9318022; MMSI 352002261 (vessel) [IRAN-EO13902] (Linked To: ALGAE SHIP CHARTER—FZCO).

Identified as property in which ALGAE SHIP CHARTER—FZCO, a person whose property and interests in property are blocked pursuant to E.O. 13902, has an interest.

14. EVENTIN Crude Oil Tanker Unknown flag; Former Vessel Flag Panama; Vessel Year of Build 2006; Vessel Registration Identification IMO 9308065 (vessel) [IRAN-EO13902] (Linked To: ALGAE SHIP CHARTER—FZCO).

Identified as property in which ALGAE SHIP CHARTER—FZCO, a person whose property and interests in property are blocked pursuant to E.O. 13902, has an interest.

15. PUMBA (5LDK8) Container Ship Liberia flag; Vessel Year of Build 2006; Vessel Registration Identification IMO 9302566; MMSI 636021329 (vessel) [IRAN-EO13902] (Linked To: MARVISE SMC DMCC).

Identified as property in which MARVISE SMC DMCC, a person whose property and interests in property are blocked pursuant to E.O. 13902, has an interest.

16. RANTANPLAN (5LCH2) Container Ship Liberia flag; Vessel Year of Build 2006; Vessel Registration Identification IMO 9307023; MMSI 636021101 (vessel) [IRAN-EO13902] (Linked To: MARVISE SMC DMCC).

Identified as property in which MARVISE SMC DMCC, a person whose property and interests in property are blocked pursuant to E.O. 13902, has an interest.

17. SIMBA (5LDC3) Container Ship Liberia flag; Vessel Year of Build 2015; Vessel Registration Identification IMO 9719862; MMSI 636021266 (vessel) [IRAN-EO13902] (Linked To: MARVISE SMC DMCC).

Identified as property in which MARVISE SMC DMCC, a person whose property and interests in property are blocked pursuant to E.O. 13902, has an interest.

18. BIGLI (D5ZP3) Container Ship Liberia flag; Vessel Year of Build 2005; Vessel Registration Identification IMO 9307047; MMSI 636020524 (vessel) [IRAN-EO13902] (Linked To: MARVISE SMC DMCC).

Identified as property in which MARVISE SMC DMCC, a person whose property and interests in property are blocked pursuant to E.O. 13902, has an interest.

19. TEX (5LEL8) Container Ship Liberia flag; Vessel Year of Build 2003; Vessel Registration Identification IMO 9246322; MMSI 636021547 (vessel) [IRAN-EO13902] (Linked To: MARVISE SMC DMCC).

Identified as property in which MARVISE SMC DMCC, a person whose property and interests in property are blocked pursuant to E.O. 13902, has an interest.

20. TIMON (A8TH7) Container Ship Liberia flag; Vessel Year of Build 2009; Vessel Registration Identification IMO 9415844; MMSI 636021306 (vessel) [IRAN-EO13902] (Linked To: MARVISE SMC DMCC).

Identified as property in which MARVISE SMC DMCC, a person whose property and interests in property are blocked pursuant to E.O. 13902, has an interest.

21. YOGI (D5ZZ2) Container Ship Liberia flag; Vessel Year of Build 2006; Vessel Registration Identification IMO 9307009; MMSI 636020609 (vessel) [IRAN-EO13902] (Linked To: MARVISE SMC DMCC).

Identified as property in which MARVISE SMC DMCC, a person whose property and interests in property are blocked pursuant to E.O. 13902, has an interest.

22. ACE (J8B6221) Container Ship St. Vincent and Grenadines flag; Vessel Year of Build 2001; Vessel Registration Identification IMO 9228538; MMSI 376846000 (vessel) [IRAN-EO13902] (Linked To: REEL SHIPPING L.L.C).

Identified as property in which REEL SHIPPING L.L.C, a person whose property and interests in property are blocked pursuant to E.O. 13902, has an interest.

23. AEOLUS (5LBD8) Container Ship Liberia flag; Vessel Year of Build 1996; Vessel Registration Identification IMO 9088524; MMSI 636020878 (vessel) [IRAN-EO13902] (Linked To: REEL SHIPPING L.L.C).

Identified as property in which REEL SHIPPING L.L.C, a person whose property and interests in property are blocked pursuant to E.O. 13902, has an interest.

24. CERUS (V4EL4) Container Ship St. Kitts and Nevis flag; Vessel Year of Build 2003; Vessel Registration Identification IMO 9259408; MMSI 341988000 (vessel) [IRAN-EO13902] (Linked To: REEL SHIPPING L.L.C).

Identified as property in which REEL SHIPPING L.L.C, a person whose property and interests in property are blocked pursuant to E.O. 13902, has an interest.

25. DHANU (V4BP4) Container Ship St. Kitts and Nevis flag; Vessel Year of Build 2001; Vessel Registration Identification IMO 9122473; MMSI 341652000 (vessel) [IRAN-EO13902] (Linked To: REEL SHIPPING L.L.C).

Identified as property in which REEL SHIPPING L.L.C, a person whose property and interests in property are blocked pursuant to E.O. 13902, has an interest.

26. GAUJA (3EKS9) Container Ship Panama flag; Vessel Year of Build 2006; Vessel Registration Identification IMO 9348493; MMSI 372818000 (vessel) [IRAN-EO13902] (Linked To: REEL SHIPPING L.L.C).

Identified as property in which REEL SHIPPING L.L.C, a person whose property and interests in property are blocked pursuant to E.O. 13902, has an interest.

27. ROB (D5UB5) Container Ship Liberia flag; Vessel Year of Build 2001; Vessel Registration Identification IMO 9236652; MMSI 636019341 (vessel) [IRAN-EO13902] (Linked To: REEL SHIPPING L.L.C).

Identified as property in which REEL SHIPPING L.L.C, a person whose property and interests in property are blocked pursuant to E.O. 13902, has an interest.

28. TB ANPING (5LOW5) Container Ship Liberia flag; Vessel Year of Build 2002; Vessel Registration Identification IMO 9237084; MMSI 636023677 (vessel) [IRAN-EO13902] (Linked To: REEL SHIPPING L.L.C).

Identified as property in which REEL SHIPPING L.L.C, a person whose property and interests in property are blocked pursuant to E.O. 13902, has an interest.

29. ANTARES I (5LJ06) Oil Products Tanker Liberia flag; Vessel Year of Build 2008; Vessel Registration Identification IMO 9382073; MMSI 636022596 (vessel) [IRAN-EO13902] (Linked To: ALGAE SHIP CHARTER—FZCO).

Identified as property in which ALGAE SHIP CHARTER—FZCO, a person whose property and interests in property are blocked pursuant to E.O. 13902, has an interest.

30. GUANYIN (A8FD8) Crude Oil Tanker Liberia flag; Vessel Year of Build 2005; Vessel Registration Identification IMO 9299707; MMSI 636012383 (vessel) [IRAN-EO13902] (Linked To: SILVER TETRA MARINE CO.).

Identified as property in which SILVER TETRA MARINE CO., a person whose property and interests in property are blocked pursuant to E.O. 13902, has an interest.

31. IANTHE (3E2611) Asphalt/Bitumen Tanker Panama flag; Vessel Year of Build 2012; Vessel Registration Identification IMO 9554822; MMSI 352001780 (vessel) [IRAN-EO13902] (Linked To: RAVI LINES INC).

Identified as property in which RAVI LINES INC, a person whose property and interests in property are blocked pursuant to E.O. 13902, has an interest.

32. KANTI (a.k.a. ARTEMIS GAS; a.k.a. LUNA) (T7BN8) LPG Tanker San Marino flag; Vessel Year of Build 2004; Vessel Registration Identification IMO 9282106; MMSI 268243502 (vessel) [IRAN-EO13902] (Linked To: KANTI LINES INC.).

Identified as property in which KANTI LINES INC., a person whose property and interests in property are blocked pursuant to E.O. 13902, has an interest.

33. ABHRA (a.k.a. PINTUS) (3E4045) Crude Oil Tanker Panama flag; Vessel Year of Build 2004; Vessel Registration Identification IMO 9282041; MMSI 352001312 (vessel) [IRAN-EO13902] (Linked To: NEO SHIPPING INC.).

Identified as property in which NEO SHIPPING INC., a person whose property and interests in property are blocked pursuant to E.O. 13902, has an interest.

34. OMNI (a.k.a. ABHA) (3E2785) Crude Oil Tanker Panama flag; Vessel Year of Build 2008; Vessel Registration Identification IMO 9400980; MMSI 352001876 (vessel) [IRAN-EO13902] (Linked To: SHAMKHANI, Mohammad Hossein).

Identified as property in which MOHAMMAD HOSSEIN SHAMKHANI, a person whose property and interests in property are blocked pursuant to E.O. 13902, has an interest.

35. IRIS (T8A3438) Crude Oil Tanker Palau flag; Vessel Year of Build 2002; Vessel Registration Identification IMO 9247778; MMSI 511100321 (vessel) [IRAN-EO13902] (Linked To: MEUSE SHIPPING INC.).

Identified as property in which MEUSE SHIPPING INC., a person whose property and interests in property are blocked pursuant to E.O. 13902, has an interest.

36. KYLO (a.k.a. MEMPHIS) (D6A4028) Crude Oil Tanker Comoros flag; Vessel Year of Build 2001; Vessel Registration Identification IMO 9189146; MMSI 620800028 (vessel) [IRAN-EO13902] (Linked To: KYLO SHIPPING INC.).

Identified as property in which KYLO SHIPPING INC., a person whose property and interests in property are blocked pursuant to E.O. 13902, has an interest.

37. MAHADEV (a.k.a. KAILASH) (T8A4926) Asphalt/Bitumen Tanker Palau flag; Vessel Year of Build 2011; Vessel Registration Identification IMO 9571052; MMSI 511101519 (vessel) [IRAN-EO13902] (Linked To: MAHADEV MARITIME INC).

Identified as property in which MAHADEV MARITIME INC, a person whose property and interests in property are blocked pursuant to E.O. 13902, has an interest.

38. YODAN (a.k.a. HERA 1) (YJQZ9) Crude Oil Tanker Vanuatu flag; Vessel Year of Build 2005; Vessel Registration Identification IMO 9304356; MMSI 577006000 (vessel) [IRAN-EO13902] (Linked To: BACKSTREET PALM CORP).

Identified as property in which BACKSTREET PALM CORP, a person whose property and interests in property are blocked pursuant to E.O. 13902, has an interest.

39. TRIS GAS (TJMC52) LPG Tanker Cameroon flag; Vessel Year of Build 1992; Vessel Registration Identification IMO 9041655; MMSI 613003596 (vessel) [IRAN-EO13902] (Linked To: WESER SHIPPING INC.).

Identified as property in which WESER SHIPPING INC., a person whose property and interests in property are blocked pursuant to E.O. 13902, has an interest.

40. XANTE (3E2584) Asphalt/Bitumen Tanker Panama flag; Vessel Year of Build 2010; Vessel Registration Identification IMO 9554834; MMSI 352001745 (vessel) [IRAN-EO13902] (Linked To: XANTE LINE INC.).

Identified as property in which XANTE LINE INC., a person whose property and interests in property are blocked pursuant to E.O. 13902, has an interest.

41. URANUS (a.k.a. AZTEC; a.k.a. NECLEUS) (D5YQ2) Crude Oil Tanker Tanzania flag; Other Vessel Flag Liberia; Vessel Year of Build 2002; Vessel Registration Identification IMO 9248485; MMSI 636014160 (vessel) [IRAN-EO13902] (Linked To: SHAMKHANI, Mohammad Hossein).

Identified as property in which MOHAMMAD HOSSEIN SHAMKHANI, a person whose property and interests in property are blocked pursuant to E.O. 13902, has an interest.

42. YUG (a.k.a. “MUR”) (D6A3316) Crude Oil Tanker Comoros flag; Vessel Year of Build 2005; Vessel Registration Identification IMO 9288875; MMSI 620999317 (vessel) [IRAN-EO13902] (Linked To: YUG SHIPPING INC.).

Identified as property in which YUG SHIPPING INC., a person whose property and interests in property are blocked pursuant to E.O. 13902, has an interest.

43. ZALE (a.k.a. IKARA) (3E3740) Crude Oil Tanker Panama flag; Vessel Year of Build 2006; Vessel Registration Identification IMO 9321718; MMSI 352001929 (vessel) [IRAN-EO13902] (Linked To: ZALE SHIPPING INC.).

Identified as property in which ZALE SHIPPING INC., a person whose property and interests in property are blocked pursuant to E.O. 13902, has an interest.

44. AETHER (3E2221) Crude Oil Tanker Panama flag; Vessel Year of Build 2007; Vessel Registration Identification IMO 9328170; MMSI 352002230 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

45. APATE (3E3783) Oil Products Tanker Panama flag; Vessel Year of Build 2009; Vessel Registration Identification IMO 9433016; MMSI 352002102 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

46. BRIONT (3E3821) Chemical/Oil Tanker Panama flag; Vessel Year of Build 2003; Vessel Registration Identification IMO 9252955; MMSI 352002147 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

47. MANASLU (3E3794) Chemical/Oil Tanker Panama flag; Vessel Year of Build 2008; Vessel Registration Identification IMO 9388027; MMSI 352002116 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

48. NEMRUT (5LKI8) Crude Oil Tanker Liberia flag; Vessel Year of Build 2009; Vessel Registration Identification IMO 9439541; MMSI 636022766 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

49. TAGOR (3E2235) Crude Oil Tanker Panama flag; Vessel Year of Build 2005; Vessel Registration Identification IMO 9282481; MMSI 352002249 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

50. TASSOS (5LKI6) Crude Oil Tanker Liberia flag; Vessel Year of Build 2009; Vessel Registration Identification IMO 9408695; MMSI 636022764 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

51. TOA PAYOH (3E3823) Chemical/Oil Tanker Panama flag; Vessel Year of Build 2005; Vessel Registration Identification IMO 9298492; MMSI 352002149 (vessel) [IRAN-EO13902] (Linked To: THE ZULU SHIPS MANAGEMENT AND OPERATION—SOLE PROPRIETORSHIP L.L.C).

Identified as property in which THE ZULU SHIPS MANAGEMENT AND OPERATION—SOLE PROPRIETORSHIP L.L.C, a person whose property and interests in property are blocked pursuant to E.O. 13902, has an interest.

52. ELKE (a.k.a. FABINO GAS) (T8A3562) LPG Tanker Palau flag; Vessel Year of Build 1993; Vessel Registration Identification IMO 9012886; MMSI 511100419 (vessel) [IRAN-EO13902] (Linked To: NOVA LINES INC.).

Identified as property in which NOVA LINES INC., a person whose property and interests in property are blocked pursuant to E.O. 13902, has an interest.

Lawrence M. Scheinert,
Acting Deputy Director, Office of Foreign Assets Control.

[FR Doc. 2025-15240 Filed 8-11-25; 8:45 am]

BILLING CODE 4810-AL-P